ENVIRONMENTAL PROTECTION AGENCY

40 CFR Part 136

[FRL-7813-5 ]

Potential Stakeholder Process for Detection and Quantitation Procedures

AGENCY: Environmental Protection Agency (EPA).

ACTION: Notice of proposed rule.

SUMMARY: This document announces EPA's intent to explore the feasibility and design of a process through which stakeholders could provide their ideas and recommendations on procedures for the development of detection and quantitation limits and uses of these limits in Clean Water Act (CWA) programs.

FOR FURTHER INFORMATION CONTACT: Marion Kelly: Engineering and Analysis Division (4303T); Office of Science and Technology; Office of Water; U.S. Environmental Protection Agency; Ariel Rios Building; 1200 Pennsylvania Avenue NW., Washington, DC 20460, or call (202) 566-1045 or E-mail at kelly.marion@epa.gov.

SUPPLEMENTARY INFORMATION: EPA approves analytical methods (i.e., test procedures) used for monitoring and reporting chemical pollutants under the CWA. EPA's analytical methods specify detection limits to determine if a pollutant is present. Quantitation limits describe the concentration of a pollutant that can be measured with a known level of confidence. These values are often used as reporting and compliance limits by the States, Tribes and EPA Regions that administer and enforce permit limits on direct discharges into water. These values are also often used by States and localities in administering and enforcing pretreatment programs for indirect discharges.

EPA published two documents in the Federal Register on this topic on March 12, 2003, for public comment. One document announced the availability of EPA's assessment of detection and quantitation procedures that are applied to analytical methods used under the CWA (68 FR 11791). The second document proposed revisions to the detection and quantitation definitions and procedures specified at 40 CFR part 136 (68 FR 11770). The proposed regulatory revisions were based largely on the results of the assessment and on comments from users of the method detection limit procedure. Further analysis of some of the public comments, prompted EPA to explore the feasibility and design of a stakeholder process to obtain additional stakeholder input on procedures for the development of detection and quantitation limits and uses of these limits in CWA programs.

The Agency is beginning the process to engage a neutral third party to conduct a situation assessment to determine whether a stakeholder process should go forward and, if so, how that process should be designed. During a situation assessment, the neutral third party talks with affected stakeholders about their ideas for the design of multi-party discussions on the policy and technical issues. As a result of these discussions, EPA expects the neutral third party to make recommendations about the feasibility and design of a stakeholder process, including format, schedule, and topics for discussion. If the neutral third party recommends that a stakeholder process is feasible, EPA will, as soon as possible, implement a process during which stakeholders could provide their ideas and recommendations on procedures for the development of detection and quantitation limits and uses of these limits in CWA programs. We estimate that the neutral third party's recommendations will probably be available in November 2004.

EPA plans to post the final situation assessment report on the EPA Web site at http://www.epa.gov/waterscience/methods/det/index.html

Dated: September 9, 2004.
Benjamin H. Grumbles,
Acting Assistant Administrator for Water.

[FR Doc. 04-20795 Filed 9-14-04; 8:45 am]

BILLING CODE 6560-50-P